DEPARTMENT OF COMMERCE

National Oceanic and Atmospheric Administration

[Docket No. 050317077-6265-04; I.D. 101306C]

Environmental Literacy Grants for Formal K-12 Education

AGENCY: Office of Education (OED), Office of the Undersecretary of Commerce for Oceans and Atmosphere (USEC), National Oceanic and Atmospheric Administration (NOAA), Commerce.

ACTION: Notice of funding availability.

SUMMARY: The NOAA Office of Education (OED) is requesting applications for environmental literacy projects in support of K-12 education. Funded projects will last between one and five years in duration and will propose ways to expand the amount of Earth System Science taught in the classroom to improve student learning of that subject. All projects shall employ the relevant strategies articulated in the NOAA Education Plan. All projects should be implemented at a State or multi-State level and have evaluations that fully assess the strengths and weaknesses of the proposed project. It is anticipated that final recommendations for funding under this announcement will be made by June 30, 2007, and that projects funded under this announcement will have a start date no earlier than September 15, 2007. This funding opportunity meets NOAA's Mission Goal to understand climate variability and change to enhance society's ability to plan and respond.

DATES: The deadline for preliminary proposals is 5 p.m., E.S.T., November 29, 2006. The deadline for full applications is 5 p.m., E.S.T. on March 21, 2007.

ADDRESSES: Pre-proposals may be submitted through Grants.gov (http://www.grants.gov), or if an application does not have Internet access, three copies may be mailed to ATTN: ELG Competition Manager, DOC/NOAA, Office of Education, 1401 Constitution Avenue, NW., Room 6863, Washington, DC 20230. Please note hard copies submitted via the U.S. Postal Service can take up to 4 weeks to reach this office therefore applicants are recommended to send hard copies via expedited shipping methods (e.g, Airborne Express, DHL, Fed Ex, UPS).

Full applications may be submitted through Grants.gov (http://www.grants.gov) or, if an applicant does not have Internet access, one hard copy may be sent to ATTN: ELG Competition Manager, DOC/NOAA Office of Education, 1401 Constitution Avenue NW., Room 6863, Washington, DC 20230. If submitting a hard copy, applicants are requested to provide a CD-ROM of the application, including scanned signed forms or forms with electronic signatures. This announcement will also be available at: http://www.oesd.noaa.gov/funding_opps.html or by contacting the program official identified in FOR FURTHER INFORMATION CONTACT. The NOAA Education Plan may be accessed at: http://www.oesd.noaa.gov/NOAA_Ed_Plan.pdf. The document entitled Ocean Literacy Essential Principles and Fundamental Concepts may be accessed at http://www.coexploration.org/oceanliteracy/documents/OceanLitConcepts_10.11.05.pdf.

FOR FURTHER INFORMATION CONTACT: Sarah Schoedinger at sarah.schoedinger@noaa.gov, telephone 704-370-3528 or Alyssa Gundersen at Alyssa.Gundersen@noaa.gov, telephone 202-482-3739.

SUPPLEMENTARY INFORMATION: The NOAA Office of Education (OED) is requesting applications for environmental literacy projects in support of K-12 education. Funded projects will last between one and five years in duration and will propose ways to expand the amount of Earth System Science taught in the classroom to improve student learning of that subject. Successful projects will catalyze change in K-12 education through development of new programs and/or materials, and/or revision of existing programs and/or materials that result in the increased use of Earth System Science in K-12 classrooms. Projects are encouraged to further the use of Earth System Science concepts, such as the concepts articulated in the Ocean Literacy Essential Principles and Fundamental Concepts (See ADDRESSSES). Projects might focus on the education of pre-service teachers or on the professional development for in-service teachers. Projects might also propose ways to create and/or support the retention of highly qualified teachers, e.g. creation of an Earth System Science certification program, or propose new, or modification to existing, K-12 curricula and related instructional materials. Projects focusing on pre-service education of teachers should involve post-secondary institutions or other entities that provide pre-service teacher education. Projects focusing on in-service teacher professional development should involve State or local governments, such as school districts, as appropriate. Projects focusing on the development of new, or modification to existing, curricula and related instructional materials should be able to demonstrate how they will address the relevant State standards, support State or national assessments, and be disseminated at the State or multi-State level. Projects that focus on free-choice learning or development of new data visualizations and platforms will not be considered for funding through this announcement. Please visit http://www.oesd.noaa.gov/funding_opps.html for information on these additional funding opportunities.

All projects shall employ the relevant strategies articulated in the NOAA Education Plan (See ADDRESSES). All projects should be implemented at a State or multi-State level and have evaluations that fully assess the strengths and weaknesses of the proposed project.

It is anticipated that final recommendations for funding under this announcement will be made by June 30, 2007, and that projects funded under this announcement will have a start date no earlier than September 15, 2007. This funding opportunity meets NOAA's Mission Goal to understand climate variability and change to enhance society's ability to plan and respond.

Electronic Access

The full text of the full funding opportunity announcement for this OED program can be accessed via the Grants.gov Web site. That announcement will also be available at the NOAA Web site: http://www.oesd.noaa.gov/funding_opps.html or by contacting the program officials identified under FOR FURTHER INFORMATION CONTACT. Applicants must comply with all requirements contained in the full funding opportunity announcement. This Federal Register notice is available through the NOAA home page at: http://www.noaa.gov/.

Statutory Authority: 15 U.S.C. 1540.

CFDA: 11.469, Congressionally Identified Awards and Projects.

Funding Availability

NOAA announces the availability, contingent upon appropriations, of approximately $3,000,000 of Federal financial assistance in FY 2007 for K-12 education projects. Approximately 4 to 6 awards in the form of grants or cooperative agreements will be made. NOAA will only consider projects that have a duration of 1 to 5 years. The total Federal amount for all years that may be requested from NOAA for the direct and indirect costs of the proposed project shall not exceed $750,000. The minimum Federal amount that must be requested from NOAA for all years for the direct and indirect costs is $200,000. Applications requesting Federal support from NOAA of less than $200,000 total or more than $750,000 total will not be considered for funding.

Publication of this notice does not oblige the Department of Commerce/National Oceanic and Atmospheric Administration (DOC/NOAA) to award any specific project or to obligate any available funds. If an applicant incurs any costs prior to receiving an award agreement signed by an authorized NOAA Grants Officer, the applicant would do so solely at one's own risk of such costs not being included under the award.

Eligibility

Eligible applicants are institutions of higher education, other nonprofits, and State, local and Indian tribal governments in the United States. Among those eligible applicants are K through 12 public and independent schools and school systems, and science centers and museums. For profit organizations, foreign institutions, foreign organizations and foreign government agencies are not eligible to apply. Federal agencies are not eligible to receive Federal assistance under this announcement, but may be project partners. DOC/NOAA is strongly committed to increasing the participation of Minority Serving Institutions (MSIs), i.e., Historically Black Colleges and Universities, Hispanic-serving institutions, Tribal colleges and universities, Alaskan Native and Native Hawaiian institutions, and institutions that work in underserved communities. Applications are encouraged that involve any of the above institutions. An individual may apply only once as principal investigator (PI) through this funding opportunity, however individuals may serve as co-PIs or key personnel on more than one application. Institutions may serve as PIs or co-PIs on an unlimited number of applications.

Cost Sharing Requirements

There are no cost-sharing requirements.

Preliminary Proposals and Full Application Requirements

Applicants must submit pre-proposals for review to prevent the expenditure of effort on proposals that may not be successful. All applicants will receive a response to their pre-proposal via e-mail or letter indicating whether they are authorized to submit a full application. Only those who submit pre-proposals are eligible to submit a full application. The provisions for pre-proposal and full application preparation are mandatory. Additional guidance, including frequently asked questions (FAQ), is available online at http://www.oesd.noaa.gov/funding_opps.html.

Evaluation and Selection Procedures

The general evaluation criteria and selection factors that apply to both pre-proposals and full applications to this funding opportunity are summarized below. The evaluation criteria for pre-proposals and full applications will have different weights and details. Further information about the evaluation criteria and selection factors can be found in the full funding opportunity announcement.

Evaluation Criteria for Projects

1. Importance and/or relevance and applicability of proposed project to the program goals: This ascertains whether there is intrinsic value in the proposed work and/or relevance to NOAA, Federal, regional, State, or local activities.

2. Technical/scientific merit: This assesses whether the approach is technically sound and/or innovative, if the methods are appropriate, and whether there are clear project goals and objectives.

3. Overall qualifications of applicants: This ascertains whether the applicant possesses the necessary education, experience, training, facilities, and administrative resources to accomplish the project.

4. Project costs: The Budget is evaluated to determine if it is realistic and commensurate with the project needs and time-frame.

5. Outreach and education: NOAA assesses whether this project provides a focused and effective education and outreach strategy regarding NOAA's mission to protect the Nation's natural resources.

Review and Selection Process

Pre-Proposal

Pre-proposals meeting the requirements listed in FFO will be evaluated by government and/or non-government representatives, each having relevant expertise. The individual reviewers' ratings shall be averaged for each application to establish rank order for the Office of Education (OED) Program Officer. The review panel will provide no consensus advice. Decisions on whether to authorize or not authorize a full application will be based on the rank order of the pre-proposals, unless choosing out of rank order is justified by the selection factors below. The Office of Education anticipates asking up to 30 applicants to submit full applications. Full applications from applicants who were not asked to submit them will not be reviewed or considered for funding.

Full Application

Upon receipt of a full application by NOAA, an initial administrative review will be conducted to determine compliance with requirements and completeness of the application. All applications that meet the minimum eligibility requirements and that are ascertained to be complete will be evaluated and scored by independent reviewers. The reviews will be conducted by a panel of individuals, who may be government or non-government representatives, each having relevant expertise. The individual reviewers' ratings will be averaged for each application to establish rank order. No consensus advice will be given by the review panel. The Program Officer will neither vote nor score applications as part of the review panel nor participate in discussion of the merits of any proposal.

The Program Officer will make his/her recommendations for funding based on rank order and the selection factors listed below to the Selecting Official for the final funding decision.

Selection Factors for Projects

The panel review ratings shall establish the rank order that the Selecting Official will use for final recommendation to the NOAA Grants Officer. The Selecting Official shall award in the rank order unless the proposal is justified to be selected out of rank order based upon one or more of the following factors:

1. Availability of funding.

2. Balance/distribution of funds:

a. Geographically;

b. By type of institutions;

c. By type of partners;

d. By research areas;

e. By project types.

3. Whether this project duplicates other projects funded or considered for funding by NOAA or other Federal agencies.

4. Program priorities and policy factors.

5. Applicant's prior award performance.

6. Partnerships and/or Participation of targeted groups.

7. Adequacy of information necessary for NOAA staff to make a NEPA determination and draft necessary documentation before recommendations for funding are made to the Grants Officer.

Intergovernmental Review

Applications under this program are not subject to Executive Order 12372, “Intergovernmental Review of Federal Programs.”

Limitation of Liability

In no event will NOAA or the Department of Commerce be responsible for proposal preparation costs if these programs fail to receive funding or are cancelled because of other agency priorities. Publication of this announcement does not oblige NOAA to award any specific project or to obligate any available funds.

National Environmental Policy Act (NEPA)

NOAA must analyze the potential environmental impacts, as required by the National Environmental Policy Act (NEPA), for applicant projects or proposals which are seeking NOAA Federal funding opportunities. Detailed information on NOAA compliance with NEPA can be found at the following NOAA NEPA Web site: http://www.nepa.noaa.gov/, including our NOAA Administrative Order 216-6 for NEPA, http://www.nepa.noaa.gov/NAO216_6_TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements

The Department of Commerce Pre-Award Notification Requirements for Grants and Cooperative Agreements contained in the Federal Register notice of December 30, 2004 (69 FR 78389), are applicable to this solicitation.

Paperwork Reduction Act

This document contains collection-of-information requirements subject to the Paperwork Reduction Act (PRA). The use of Standard Forms 424, 424A, 424B, and SF-LLL and CD-346 has been approved by the Office of Management and Budget (OMB) under the respective control numbers 0348-0043, 0348-0044, 0348-0040, 0348-0046, and 0605-0001.

Notwithstanding any other provision of law, no person is required to, nor shall a person be subject to a penalty for failure to comply with, a collection of information subject to the requirements of the PRA unless that collection of information displays a currently valid OMB control number.

Executive Order 12866

This notice has been determined to be not significant for purposes of Executive Order 12866.

Executive Order 13132 (Federalism)

It has been determined that this notice does not contain policies with Federalism implications as that term is defined in Executive Order 13132.

Administrative Procedure Act/Regulatory Flexibility Act

Prior notice and an opportunity for public comment are not required by the Administrative Procedure Act or any other law for rules concerning public property, loans, grants, benefits, and contracts (5 U.S.C. 553(a)(2)). Because notice and opportunity for comment are not required pursuant to 5 U.S.C. 553 or any other law, the analytical requirements for the Regulatory Flexibility Act (5 U.S.C. 601 et seq.) are inapplicable. Therefore, a regulatory flexibility analysis has not been prepared.

Helen Hurcombe,
Director, NOAA Acquisitions and Grants, U.S. Department of Commerce.

[FR Doc. E6-17536 Filed 10-18-06; 8:45 am]

BILLING CODE 3510-12-P